DEPARTMENT OF COMMERCE

International Trade Administration

[A-570-882]

Refined Brown Aluminum Oxide from the People's Republic of China: Notice of Continuation of Antidumping Duty Order

AGENCY: Import Administration, International Trade Administration, Department of Commerce.

SUMMARY: As a result of the determinations by the Department of Commerce (the Department) and the International Trade Commission (ITC) that revocation of the antidumping duty order on refined brown aluminum oxide (RBAO) from the People's Republic of China (PRC) would be likely to lead to continuation or recurrence of dumping and of material injury to an industry in the United States within a reasonably foreseeable time, the Department is publishing notice of the continuation of this antidumping duty order.

EFFECTIVE DATE: March 13, 2009.

FOR FURTHER INFORMATION CONTACT: David Goldberger, Katherine Johnson, or Brandon Farlander, AD/CVD Operations, Import Administration, International Trade Administration, U.S. Department of Commerce, 14th Street & Constitution Avenue, NW, Washington, DC 20230; telephone: (202) 482-4136, (202) 482-4929, and (202) 482-0182, respectively.

SUPPLEMENTARY INFORMATION:

Background

On October 1, 2008, the Department initiated and the ITC instituted a sunset review of the antidumping duty order on RBAO from the PRC, pursuant to section 751(c) of the Tariff Act of 1930, as amended (the Act). See Initiation of Five-year (“Sunset”) Reviews 73 FR 57055 (October 1, 2008).

The Department conducted an expedited sunset review of this order. As a result of its review, the Department found that revocation of the antidumping duty order would be likely to lead to continuation or recurrence of dumping and notified the ITC of the magnitude of the margins likely to prevail were the order to be revoked. See Refined Brown Aluminum Oxide from the People's Republic of China: Final Results of Expedited Sunset Review, 74 FR 4138 (January 23, 2009). On March 6, 2009, the ITC published its determination pursuant to section 751(c) of the Act, that revocation of the antidumping duty order on RBAO from the PRC would be likely to lead to continuation or recurrence of material injury to an industry in the United States within a reasonably foreseeable time. See Refined Brown Aluminum Oxide from China; Determination, 74 FR 9830 (March 6, 2009).

Scope of the Order

The merchandise covered by this order is ground, pulverized or refined brown artificial corundum, also known as brown aluminum oxide or brown fused alumina, in grit size of 3/8 inch or less. Excluded from the scope of the order is crude artificial corundum in which particles with a diameter greater than 3/8 inch constitute at least 50 percent of the total weight of the entire batch. The scope includes brown artificial corundum in which particles with a diameter greater than 3/8 inch constitute less than 50 percent of the total weight of the batch. The merchandise under investigation is currently classifiable under subheadings 2818.10.20.00 and 2818.10.20.90 of the Harmonized Tariff Schedule of the United States (HTSUS). Although the HTSUS subheading is provided for convenience and customs purposes, the written description of the merchandise covered by the order is dispositive.

Continuation

As a result of the determinations by the Department and the ITC that revocation of the antidumping duty order would be likely to lead to continuation or recurrence of dumping and material injury to an industry in the United States, pursuant to section 751(d)(2) of the Act, the Department hereby orders the continuation of the antidumping duty order on RBAO from the PRC.

U.S. Customs and Border Protection will continue to collect antidumping duty cash deposits at the rates in effect at the time of entry for all imports of subject merchandise.

The effective date of continuation of this order will be the date of publication in the Federal Register of this Notice of Continuation. Pursuant to section 751(c)(2) of the Act, the Department intends to initiate the next five-year review of this order not later than February 2014.

This five-year (sunset) review and this notice are in accordance with sections 751(c) and 777(i)(1) of the Act.

Dated: March 9, 2009.
Ronald K. Lorentzen,
Acting Assistant Secretary for Import Administration.

[FR Doc. E9-5478 Filed 3-12-09; 8:45 am]

BILLING CODE 3510-DS-S